DEPARTMENT OF THE INTERIOR

National Park Service

General Management Plan, Environmental Impact Statement, Padre Island National Seashore, Texas

AGENCY: National Park Service, Department of the Interior.

ACTION: Notice of Intent to prepare an Environmental Impact Statement for the General Management Plan, Padre Island National Seashore.

SUMMARY: Pursuant to the National Environmental Policy Act of 1969, 42 U.S.C. 4332 (C), the National Park Service is preparing an Environmental Impact Statement for the General Management Plan for Padre Island National Seashore. The effort will result in a comprehensive General Management Plan that encompasses preservation of natural and cultural resources, visitor use and interpretation, roads, and facilities. The plan will guide the protection and preservation of the natural and cultural environments considering a variety of interpretive and recreational visitor experiences that enhance the enjoyment and understanding of the park resources. In cooperation with local and national interests, attention will also be given to resources outside the boundaries that affect the integrity of park resources. Alternatives to be considered include a no-action and alternatives addressing the following:

To clearly describe specific resource conditions and visitor experiences in various management units throughout the park and,

To identify the kinds of management, use, and development that will be appropriate to achieving and maintaining those conditions.

Major issues include sea turtles, southern access from a ferry proposal from Port Mansfield, trash along the shoreline, dredge material disposal, illegal activities routes to smugglers, terrorists, and illegal immigrants, illegal off-road vehicles, poaching, metal detecting, and illegal commercial fishing), beach/shoreline management, boundaries, and partnership opportunities with other agencies (state and federal). A scoping brochure has been prepared outlining the issues identified to date and will be available in July 2003. Electronic copies of the newsletter will be available on the NPS Planning Web site for the plan in the What's New Section: http://planning.nps.gov/parkweb/default.cfm?RecordID=143 or from, Jock Whitworth, Superintendent, Padre Island National Seashore, 20301 Park Road 22, Corpus Christi, Texas 78418. Public workshop information will be announced on the Web site in late August. Comments on this notice must be received by September 15, 2003.

DATES: The Park Service will accept comments from the public through September 22, 2003.

ADDRESSES: Information will be available for public review and comment in the office of the Superintendent, Padre Island National Seashore, 20301 Park Road 22, Corpus Christi, Texas 78418, (361) 949-8173.

FOR FURTHER INFORMATION CONTACT: Jock Whitworth, Superintendent, Padre Island National Seashore, (361) 949-8173.

SUPPLEMENTARY INFORMATION: If you wish to comment on the scoping brochure or on any other issues associated with the plan, you may submit your comments by any one of several methods. You may mail comments to Padre Island National Seashore, P.O. 181300, Corpus Christi, Texas 78480-1300. You may also comment via the Internet on the Your Input Section of the Web site at: http://planning.nps.gov/parkweb/default.cfm?RecordID=143

Please submit all comments at the address above by cutting and pasting the comments into the comment form provided on the Your Input Section of our website. If you do not receive a confirmation from the system that we have received your Internet message, contact us directly at (361) 949-8173. Finally, you may hand-deliver comments to Padre Island National Seashore, 20301 Park Road 22, Corpus Christi, Texas 78418. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: May 16, 2003.
Michael D. Snyder,
Deputy Regional Director, Intermountain Region, National Park Service.

[FR Doc. 03-18700 Filed 7-22-03; 8:45 am]

BILLING CODE 4312-CD-P